DEPARTMENT OF ENERGY

Federal Energy Regulatory Commission

Combined Notice of Filings # 1

April 08, 2010.

Take notice that the Commission received the following electric corporate filings:

Docket Numbers: EC10-59-000.

Applicants: EquiPower Resources Corp., BG Dighton Power, LLC, Lake Road Generating Co LP, Masspower.

Description: Joint Application for Authorization of Transaction under Section 203 of the PFA, and Requests for Waivers of Filing Requirements, Confidential Treatment of Transaction Documents, Shortened Comment Period and Expedited Consideration.

Filed Date: 04/08/2010.

Accession Number: 20100408-5098.

Comment Date: 5 p.m. Eastern Time on Thursday, April 29, 2010.

Take notice that the Commission received the following exempt wholesale generator filings:

Docket Numbers: EG10-31-000.

Applicants: Loraine Windpark Project, LLC.

Description: Notice of Self-Certification of Exempt Wholesale Generator Status of Loraine Windpark Project, LLC.

Filed Date: 04/08/2010.

Accession Number: 20100408-5097.

Comment Date: 5 p.m. Eastern Time on Thursday, April 29, 2010.

Take notice that the Commission received the following electric rate filings:

Docket Numbers: ER99-2948-020; ER00-2918-019; ER01-1654-022; ER01-556-018; ER02-2567-019; ER04-485-017; ER05-261-012; ER07-244-011; ER05-728-012; ER07-245-011; ER07-247-011; ER08-860-001; ER10-346-005.

Applicants: Constellation Energy Commodities Group, R.E. Ginna Nuclear Power Plant, LLC, Baltimore Gas and Electric Company, Constellation Pwr Source Generation LLC, Constellation NewEnergy, Inc., Nine Mile Point Nuclear Station, LLC, CER Generation II, LLC, Handsome Lake Energy, LLC, Constellation Energy Commodities Group M, Calvert Cliffs Nuclear Power Plant LLC, Raven One, LLC, Raven Three, LLC, Raven Two, LLC.

Description: Update to Notice of Change in Status of Constellation MBR Entities.

Filed Date: 04/08/2010.

Accession Number: 20100408-5012.

Comment Date: 5 p.m. Eastern Time on Thursday, April 29, 2010.

Docket Numbers: ER10-1029-000

Applicants: West Oaks Energy, LP.

Description: West Oaks Energy NY/NE, LP submits Application for Market-Based Rate Authorization, designation of Category 1 Status, and Request for waivers and Blanket Approvals.

Filed Date: 04/07/2010.

Accession Number: 20100407-0238.

Comment Date: 5 p.m. Eastern Time on Wednesday, April 28, 2010.

Docket Numbers: ER10-1030-000.

Applicants: West Oaks Energy NY/NE, LP.

Description: West Oaks Energy NY/NE, LP submits Application for Market-Based Rate Authorization, designation of Category 1 Status, and Request for waivers and Blanket Approvals.

Filed Date: 04/07/2010.

Accession Number: 20100407-0237.

Comment Date: 5 p.m. Eastern Time on Wednesday, April 28, 2010.

Docket Numbers: ER10-1031-000.

Applicants: Crestwood Energy, LP.

Description: Crestwood Energy LP submits FERC Electric Tariff, Original Volume No 1 effective 4/8/2010.

Filed Date: 04/07/2010.

Accession Number: 20100407-0215.

Comment Date: 5 p.m. Eastern Time on Wednesday, April 28, 2010.

Docket Numbers: ER10-1033-000.

Applicants: Beaver Ridge Wind, LLC.

Description: Beaver Ridge Wind, LLC submits tariff filing per 35.12: Market Based Rate Authorization to be effective 7/1/2008.

Filed Date: 04/08/2010.

Accession Number: 20100408-5106.

Comment Date: 5 p.m. Eastern Time on Thursday, April 29, 2010.

Docket Numbers: ER10-1034-000.

Applicants: Competitive Energy.

Description: Competitive Energy submits tariff filing per 35.12: Competitive Energy Tariff to be effective 8/1/2001.

Filed Date: 04/08/2010.

Accession Number: 20100408-5109.

Comment Date: 5 p.m. Eastern Time on Thursday, April 29, 2010.

Take notice that the Commission received the following electric securities filings:

Docket Numbers: ES10-32-000.

Applicants: NSTAR Electric Company.

Description: Application of NSTAR Electric Company for Authority to Issue Short-Term Debt Securities.

Filed Date: 04/08/2010.

Accession Number: 20100408-5085.

Comment Date: 5 p.m. Eastern Time on Thursday, April 29, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Nathaniel J. Davis, Sr.,
Deputy Secretary.

[FR Doc. 2010-8607 Filed 4-14-10; 8:45 am]

BILLING CODE 6717-01-P